DEPARTMENT OF HEALTH AND HUMAN SERVICES

National Institutes of Health

National Cancer Institute; Amended Notice of Meeting

Notice is hereby given of a change in the meeting of the National Cancer Institute Special Emphasis Panel, March 17, 2014, 09:00 a.m. to March 17, 2014, 12:30 p.m., National Cancer Institute Shady Grove, 2W914, Rockville, MD which was published in the Federal Register on February 07, 2014, 79FR7466.

This meeting is being amended to change the start and end time to 12:00 p.m.-5:00 p.m. The meeting is closed to the public.

Dated: February 12, 2014.
Melanie J. Gray,
Program Analyst, Office of Federal Advisory Committee Policy.

[FR Doc. 2014-03398 Filed 2-14-14; 8:45 am]

BILLING CODE 4140-01-P